DEPARTMENT OF HEALTH AND HUMAN SERVICES

Meeting of the Chronic Fatigue Syndrome Advisory Committee

AGENCY: Department of Health and Human Services, Office of the Secretary, Office of the Assistant Secretary for Health.

ACTION: Notice.

SUMMARY: As stipulated by the Federal Advisory Committee Act, the U.S. Department of Health and Human Services (DHHS) is hereby giving notice that a meeting of the Chronic Fatigue Syndrome Advisory Committee (CFSAC) will take place via webinar. This webinar will be open to the public. Registration is required for those who wish to provide public testimony.

DATES: The CFSAC webinar will be held Wednesday, December 3, 2014, from 12:30 p.m. to 5:00 p.m. (ET) and Thursday, December 4, 2014, from 12:30 p.m. to 5:00 p.m. (ET).

ADDRESSES: The meeting will be conducted by webinar.

FOR FURTHER INFORMATION CONTACT: Barbara James, Senior Public Health Advisor, Chronic Fatigue Syndrome Advisory Committee, Department of Health and Human Services, Office on Women's Health, 200 Independence Avenue SW., Room 728F, Washington, DC 20201. Phone: 202-690-7650; Fax: 202-260-6537. cfsac@hhs.gov.

SUPPLEMENTARY INFORMATION: The CFSAC is authorized under 42 U.S.C. 217a, Section 222 of the Public Health Service Act, as amended. The purpose of the CFSAC is to provide advice and recommendations to the Secretary of Health and Human Services, through the Assistant Secretary for Health, on issues related to myalgic encephalomyelitis/chronic fatigue syndrome (ME/CFS). The issues can include factors affecting access and care for persons with ME/CFS; the science and definition of ME/CFS; and broader public health, clinical, research and educational issues related to ME/CFS.

The agenda for this meeting and instructions to access the webinar will be posted on the CFSAC Web site www.hhs.gov/advcomcfs/. The webinar will use Adobe Acrobat Connect Pro Meeting. Please test your computer prior to participation at http://admin.adobeconnect.com/common/help/en/support/meeting_test.htm. Oral public comment will be scheduled for this webinar. Registration and instructions for scheduling public comments and submitting public testimony are available at www.blsmeetings.net/cfsac.

Dated: November 14, 2014.
Nancy C. Lee,
Designated Federal Officer, Chronic Fatigue Syndrome Advisory Committee, U.S. Department of Health and Human Service.

[FR Doc. 2014-27440 Filed 11-18-14; 8:45 am]

BILLING CODE 4150-42-P